FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 441F.

Name: Thomson, Jacobs & Moran, Inc.

Address: 16213 Wrights Ferry Road, Charlotte, NC 28278.

Date Revoked: January 27, 2010.

Reason: Surrendered license voluntarily.

License Number: 739F.

Name: Charles A. Redden, Inc.

Address: 1609 Vauxhall Road, Second Floor, Union, NJ 07083.

Date Revoked: January 1, 2010.

Reason: Failed to maintain a valid bond.

License Number: 2815F.

Name: Vanderbilt International, Inc.

Address: 1475 NW. 97th Ave., Suite 103, Miami, FL 33172.

Date Revoked: January 11, 2010.

Reason: Failed to maintain a valid bond.

License Number: 2867F.

Name: M.A.T. International Service, Inc.

Address: 6501 NW. 87th Ave., Miami, FL 33166.

Date Revoked: January 10, 2010.

Reason: Failed to maintain a valid bond.

License Number: 3867NF.

Name: All State International Freight, Inc. dba A.I.F. Company.

Address: 200 E. Stanley Street, Compton, CA 90220.

Date Revoked: January 12, 2010.

Reason: Surrendered license voluntarily.

License Number: 3992NF.

Name: D.L. Bynum & Company, Inc.

Address: 18406 Security Road, Bldg. 10, Suite 100, Houston, TX 77032.

Dates Revoked: January 16, 2010 and December 12, 2009.

Reason: Failed to maintain valid bonds.

License Number: 11384N.

Name: A.H.S. International, Inc.

Address: 15001 South Broadway Street, Gardena, CA 90248.

Date Revoked: January 8, 2010.

Reason: Failed to maintain a valid bond.

License Number: 14624N.

Name: EWP International, Inc.

Address: 624 West 9th Street, Suite 101, San Pedro, CA 90731.

Date Revoked: January 11, 2010.

Reason: Failed to maintain a valid bond.

License Number: 16574F.

Name: International Forwarders Inc.

Address: 501-C Industrial Street, Lake Worth, FL 33461.

Date Revoked: January 24, 2010.

Reason: Failed to maintain a valid bond.

License Number: 017198NF.

Name: OMJ International Freight Inc.

Address: 5539 NW. 72nd Ave., Miami, FL 33166.

Date Revoked: January 15, 2010.

Reason: Failed to maintain valid bonds.

License Number: 017584N.

Name: Cargo Control Express, Inc. dba Lions America.

Address: 1971 West 190th Street, Suite 160, Torrance, CA 90504.

Date Revoked: January 27, 2010.

Reason: Failed to maintain a valid bond.

License Number: 17678N.

Name: Four Link International, Inc.

Address: 146-27 167th Street, Suite 100, Jamaica, NY 11434.

Date Revoked: January 2, 2010.

Reason: Failed to maintain a valid bond.

License Number: 017746N.

Name: Garnetany Enterprises, LLC dba Intlogusa.

Address: 2301 East Artesia Blvd., Long Beach, CA 90805.

Date Revoked: January 9, 2010.

Reason: Failed to maintain a valid bond.

License Number: 017839N.

Name: Empire Container Line, Inc.

Address: 18 Chapel Avenue, Jersey City, NJ 07305.

Date Revoked: January 1, 2010.

Reason: Failed to maintain a valid bond.

License Number: 018219N.

Name: Willy Express Shipping Inc.

Address: 1327 Webster Ave., Bronx, NY 10456.

Date Revoked: January 16, 2010.

Reason: Failed to maintain a valid bond.

License Number: 018759NF.

Name: Meyers Van Lines, Inc.

Address: 370 Concord Avenue, Bronx, NY 10454.

Date Revoked: January 17, 2010.

Reason: Failed to maintain valid bonds.

License Number: 019136N.

Name: Consolidated Logistics LLC.

Address: 7794 NW. 71st Street, Miami, FL 33166.

Date Revoked: January 8, 2010.

Reason: Failed to maintain a valid bond.

License Number: 019656N.

Name: T4 Logistics, LLC.

Address: 3401 K Street, NW., Suite 201, Washington, DC 20007.

Date Revoked: January 11, 2010.

Reason: Surrendered license voluntarily.

License Number: 020405N.

Name: S.L.C. Shipping, Inc.

Address: 211 East Beacon Street, Suite A, Alhambra, CA 91801.

Date Revoked: January 27, 2010.

Reason: Failed to maintain a valid bond.

License Number: 020428NF.

Name: Volvo Group North America, Inc.

Address: 18212 Shawley Drive, Hagerstown, MD 21740.

Date Revoked: January 14, 2010.

Reason: Surrendered license voluntarily.

License Number: 020658N.

Name: Goal Ocean & Air Logistics Inc.

Address: 147-35 Farmers Blvd., Suite 203-204, Jamaica, NY 11434.

Date Revoked: January 8, 2010.

Reason: Failed to maintain a valid bond.

License Number: 020682N.

Name: Raices Express Inc.

Address: 1400 NW. 48th Place, Deerfield Beach, FL 33064.

Date Revoked: January 6, 2010.

Reason: Failed to maintain a valid bond.

License Number: 021418N.

Name: Asbun International Freight, Inc.

Address: 8140 NW. 74th Ave., Suite 13 & 14, Medley, FL 33166.

Date Revoked: January 4, 2010.

Reason: Failed to maintain a valid bond.

License Number: 021476N.

Name: Norma's Cargo Solutions LLC.

Address: 5665 SW. 8th Street, Miami, FL 33134.

Date Revoked: January 21, 2010.

Reason: Surrendered NVOCC license voluntarily.

License Number: 021729NF.

Name: Salviati & Santori Ocean, Inc.

Address: 10 E. Merrick Road, Room 210, Valley Stream, NY 11580.

Date Revoked: January 20, 2010.

Reason: Failed to maintain valid bonds.

License Number: 021877F.

Name: Airpax, Inc.

Address: 334 Ella Grasso Turnpike, Suite 270, Windsor Locks, CT 06096.

Date Revoked: January 27, 2010.

Reason: Failed to maintain a valid bond.

Sandra L. Kusumoto,
Director, Bureau of Certification and Licensing.

[FR Doc. 2010-3765 Filed 2-24-10; 8:45 am]

BILLING CODE P